DEPARTMENT OF LABOR

Employment and Training Administration

[TA-W-39,908]

Cleveland Caroknit Lawndale, NC; Notice of Termination of Investigation

Pursuant to section 221 of the Trade Act of 1974, an investigation was initiated on August 27, 2001, in response to a worker petition which was filed on behalf of workers at Cleveland Caroknit, Lawndale, North Carolina.

An investigation applicable to the petitioning group of workers is in process (TA-W-39,518). Consequently, further investigation in this case would serve no purpose; and the investigation has been terminated.

Signed at Washington, DC this 11th day of December 2001.
Edward A. Tomchick,
Director, Division of Trade Adjustment, Assistance.

[FR Doc. 01-31632 Filed 12-21-01; 8:45 am]

BILLING CODE 4510-30-M